ENVIRONMENTAL PROTECTION AGENCY

[EPA-HQ-OW-2009-0090; FRL 9932-01-OEI]

Information Collection Request Submitted to OMB for Review and Approval; Comment Request; Unregulated Contaminant Monitoring in Public Water Systems (UCMR 3) (Renewal)

AGENCY: Environmental Protection Agency (EPA).

ACTION: Notice.

SUMMARY: The U.S. Environmental Protection Agency (EPA) has submitted an information collection request (ICR), “Unregulated Contaminant Monitoring in Public Water Systems (UCMR 3)” (EPA ICR No. 2192.06, OMB Control No. 2040-0270) to the Office of Management and Budget (OMB) for review and approval in accordance with the Paperwork Reduction Act (PRA; 44 U.S.C. 3501 et seq.). This is a proposed extension of the ICR, which is currently approved through August 31, 2015. Public comments were previously requested via the Federal Register (80 FR 17042) on March 31, 2015, during a 60-day comment period. No public comments were received relating to the UCMR 3 ICR Renewal. This notice allows for an additional 30 days for public comments. A fuller description of the ICR is given in this notice, including its estimated burden and cost to the public. An Agency may not conduct or sponsor and a person is not required to respond to a collection of information unless it displays a currently valid OMB control number.

DATES: Additional comments may be submitted on or before September 25, 2015.

ADDRESSES: Submit your comments, referencing Docket ID No. EPA-HQ-OW-2009-0090, to (1) EPA online using www.regulations.gov (our preferred method), by email to OW-Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Brenda D. Parris, Standards and Risk Management Division (SRMD), Office of Ground Water and Drinking Water (OGWDW) (MS 140), Environmental Protection Agency, 26 West Martin Luther King Drive, Cincinnati, OH 45268; telephone number: (513) 569-7961; or email address: parris.brenda@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The Safe Drinking Water Act (SDWA), as amended in 1996, requires EPA to establish criteria for a program to monitor not more than 30 unregulated contaminants every five years. Information collected under the program supports Agency decision making regarding whether or not to regulate particular contaminants in drinking water. UCMR 3 addresses the third group of 30 contaminants and was published in the Federal Register on May 2, 2012.

UCMR 3 “Assessment Monitoring” began in January 2013 and continues through December 2015 for all large systems (those systems serving 10,001 to 100,000 people) and very large systems (those systems serving more than 100,000 people), and for a nationally representative sample of 800 small public water systems (PWSs) (those serving 10,000 or fewer people). The “Screening Survey” began in January 2013 and continues through December 2015 for all very large systems, 320 randomly-selected large systems, and 480 randomly selected small systems. “Pre-Screen Testing” began in January 2013 and continues through December 2015 for a sample of 800 very small (systems serving 1,000 or fewer people) undisinfected ground water systems.

Form Numbers: None.

Respondents/affected entities: Public Water Systems (PWSs) and States, territories and tribes with primacy to administer the regulatory program for PWSs under SDWA.

Respondent's obligation to respond: Mandatory. The information collection is carried out per Section 1445(a) of SDWA.

Estimated number of respondents: There are approximately 6,351 respondents to UCMR 3, including approximately 2,098 PWSs that will monitor during the ICR years of 2015-2017, and 56 states and primacy agents.

Frequency of response: On occasion.

Total estimated burden: 17,902 hours per year. Burden is defined at 5 CFR 1320.03(b).

Total estimated cost: $7,449,927 per year, including $6,546,967 in non-labor costs.

Changes in the Estimates: There is a decrease of 22,765 hours in the total estimated respondent burden compared with the existing ICR. This decrease is an adjustment to estimates due to the reduced number of PWSs that have to monitor during the ICR period of 2015-2017.

Courtney Kerwin,
Acting Director, Collection Strategies Division.

[FR Doc. 2015-21136 Filed 8-25-15; 8:45 am]

BILLING CODE 6560-50-P